DEPARTMENT OF COMMERCE

International Trade Administration

[A-549-502]

Circular Welded Carbon Steel Pipes and Tubes From Thailand: Final Results of Antidumping Duty Administrative Review and Final Determination of No Shipments; 2020-2021

AGENCY: Enforcement and Compliance, International Trade Administration, Department of Commerce.

SUMMARY: The U.S. Department of Commerce (Commerce) determines that the producers or exporters subject to this review did not make sales of circular welded carbon steel pipes and tubes (CWP) from Thailand at less than normal value during the period of review (POR) March 1, 2020, through February 29, 2021. We further determine that K Line Logistics (Thailand) Ltd. (K-Line) had no shipments during the POR.

DATES: Applicable October 6, 2022.

FOR FURTHER INFORMATION CONTACT: Michael Romani or Thomas Schauer, AD/CVD Operations, Office I, Enforcement and Compliance, International Trade Administration, U.S. Department of Commerce, 1401 Constitution Avenue NW, Washington, DC 20230; telephone: (202) 482-0198 or (202) 482-0410, respectively.

SUPPLEMENTARY INFORMATION:

Background

On April 6, 2022, Commerce published the preliminary results of the 2020-2021 administrative review of the antidumping duty order on CWP from Thailand.¹ This review covers a sole mandatory respondent, Saha Thai Steel Pipe Public Co., Ltd., also known as Saha Thai Steel Pipe (Public) Co., Ltd. (Saha Thai), and 28 non-examined producers or exporters of subject merchandise. We invited interested parties to comment on the Preliminary Results.² On June 15, 2022, Wheatland Tube Company (Wheatland), a domestic interested party,³ Nucor Tubular Products Inc. (Nucor), a domestic interested party,⁴ and Saha Thai ⁵ timely submitted case briefs. On June 22, 2022, Wheatland,⁶ Nucor,⁷ and Saha Thai ⁸ submitted timely rebuttal briefs. Commerce conducted this review in accordance with section 751(a) of the Tariff Act of 1930, as amended (the Act).

¹ See Circular Welded Carbon Steel Pipes and Tubes from Thailand: Preliminary Results of Antidumping Duty Administrative Review and Preliminary Determination of No Shipments; 2020-2021, 87 FR 19856 (April 6, 2022) (Preliminary Results), and accompanying Preliminary Decision Memorandum.

² See Preliminary Results, 87 FR at 19857.

³ See Wheatland's Letter, “Circular Welded Steel Pipes and Tubes from Thailand: Case Brief,” dated June 15, 2022.

⁴ See Nucor's Letter, “Circular Welded Carbon Steel Pipes and Tubes from Thailand: Case Brief,” dated June 15, 2022. In its case brief, Nucor stated that it “concurs with and adopt by reference the arguments set forth in the case brief submitted by Wheatland” and that it “does not wish to address any issues or arguments that are substantively different from those addressed by Wheatland in its case brief.”

⁵ See Saha Thai's Letter, “Saha Thai's Case Brief; Circular Welded Carbon Steel Pipe and Tubes from Thailand: Letter in Lieu of Case Brief (AR 20-21),” dated June 15, 2021.

⁶ See Wheatland's Letter, “Circular Welded Carbon Steel Pipes and Tubes from Thailand: Letter in Lieu of Rebuttal Brief,” dated June 22, 2022.

⁷ See Nucor's Letter, “Circular Welded Carbon Steel Pipes and Tubes from Thailand: Rebuttal Brief,” dated June 22, 2022.” In its rebuttal brief, Nucor stated that it “concurs with and adopts by reference the arguments set forth in the rebuttal brief submitted by Wheatland” and that it “does not wish to address any issues or arguments that are substantively different from those addressed by Wheatland in its rebuttal brief.”

⁸ See Saha Thai's Letter, “Saha Thai's Case Brief; Circular Welded Carbon Steel Pipe and Tubes from Thailand: Rebuttal Brief (AR 20-21),” dated June 22, 2021.

Scope of the Order ⁹

⁹ See Antidumping Duty Order; Circular Welded Carbon Steel Pipes and Tubes from Thailand, 51 FR 8341 (March 11, 1986) (Order).

The products covered by the Order are CWP. A full description of the scope of the Order is contained in the Issues and Decision Memorandum.¹⁰

¹⁰ See Memorandum, “Circular Welded Carbon Steel Pipes and Tubes from Thailand: Issues and Decision Memorandum for the Final Results of Antidumping Duty Administrative Review and Final Determination of No Shipments; 2020-2021,” dated concurrently with, and hereby adopted by, this notice (Issues and Decision Memorandum).

Analysis of Comments Received

All issues raised in the case and rebuttal briefs submitted by parties in this administrative review are addressed in the Issues and Decision Memorandum and are listed in Appendix I to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed at https://access.trade.gov/public/FRNoticesListLayout.aspx.

Changes Since the Preliminary Results

We made no changes to our calculations for the final results of review.

Final Determination of No Shipments

We preliminarily found that K Line had no shipments of subject merchandise during the POR.¹¹ No party commented on the Preliminary Results regarding the no-shipments decision with respect to K-Line. Therefore, for the final results, we continue to find that K-Line had no shipments of subject merchandise during the POR and will issue appropriate instructions to U.S. Customs and Border Protection (CBP) based on the final results.

¹¹ See Preliminary Results, 87 FR at 19856.

Rate for Non-Examined Companies

The statute and Commerce's regulations do not address the establishment of a weighted-average dumping margin to be applied to companies not selected for individual examination when Commerce limits its examination in an administrative review pursuant to section 777A(c)(2) of the Act. Generally, Commerce looks to section 735(c)(5) of the Act, which provides instructions for calculating the all-others rate in a less-than-fair-value investigation, for guidance when calculating the weighted-average dumping margin for companies which were not selected for individual examination in an administrative review. Under section 735(c)(5)(A) of the Act, the all-others rate is normally an amount equal to the weighted average of the estimated weighted average dumping margins established for exporters and producers individually investigated, excluding any zero or de minimis (i.e., less than 0.5 percent) margins, and any margins determined entirely on the basis of facts available.

In this review, we have calculated a weighted-average dumping margin for the mandatory respondent, Saha Thai, that is zero percent. Where the rates for the individually examined companies are all zero, de minimis, or determined entirely using facts available, section 735(c)(5)(B) of the Act instructs that Commerce “may use any reasonable method to establish the estimated all-others rate for exporters and producers not individually investigated, including averaging the estimated weighted average dumping margins determined for the exporters and producers individually investigated.” One such reasonable method is to weight average the zero and de minimis rates, and the rates determined entirely pursuant to facts available. In fact, the SAA states that this is the “expected” method in such circumstances.¹² Accordingly, we determined the weighted-average dumping margin for the 28 companies that were not selected for individual examination based on the weighted average dumping margin calculated for Saha Thai, i.e., zero percent, consistent with section 735(c)(5)(B) of the Act. This is the only rate determined in this review for an individually examined company, and, thus, it is applied to the 28 firms not selected for individual examination.

¹² See Statement of Administrative Action Accompanying the Uruguay Round Agreements Act, H.R. Doc. 103-316, vol. 1 (1994) (SAA) at 873.

Final Results of Administrative Review

Commerce determines that the following weighted-average dumping margins exist for the period March 1, 2020, through February 28, 2021:

Producer or exporter | Weighted-average dumping margin (percent)
Saha Thai Steel Pipe Public Co., Ltd.; Saha Thai Steel Pipe (Public) Company, Ltd | 0.00

Review-Specific Average Rate Applicable to the Following Companies
Producer or exporter | Average dumping margin (percent)
Non-Examined Companies ¹³ | 0.00

Disclosure

Normally, Commerce discloses to the parties in a proceeding the calculations performed in connection with a final results of review within five days after public announcement of final results.¹⁴ However, because Commerce made no adjustments to the margin calculation methodology used in the Preliminary Results, there are no calculations to disclose for the final results of review.

¹³ See Appendix II for a full list of these companies.

¹⁴ See 19 CFR 351.224(b).

Assessment Rates

Pursuant to section 751(a)(2)(C) of the Act and 19 CFR 351.212(b), Commerce will determine, and CBP shall assess, antidumping duties on all appropriate entries of subject merchandise in accordance with the final results of this review.

For Saha Thai, the calculated weighted-average dumping margin in the final results is zero or de minimis; accordingly, we will instruct CBP to liquidate the entries reported in this review without regard to antidumping duties. For entries of subject merchandise during the POR produced by Saha Thai for which it did not know its merchandise was destined for the United States, we will instruct CBP to liquidate unreviewed entries at the all-others rate if there is no rate for the intermediate company(ies) involved in the transaction.

For the companies identified above that were not selected for individual examination, we will instruct CBP to assess antidumping duties at a rate equal to the weighted-average dumping margin for that company established in the final results of review.

Because we have determined that K-Line had no shipments of subject merchandise in this review, Commerce will instruct CBP to liquidate any suspended entries that entered under K-Line's case number (i.e., at K-Line's cash deposit rate) at the all-others rate (i.e., 15.67 percent).

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

Upon publication of this notice in the Federal Register, the following cash deposit requirements will be effective for all shipments of CWP entered, or withdrawn from warehouse, for consumption on or after the publication date, as provided by section 751(a)(2)(C) of the Act: (1) the cash deposit rates for the companies subject to this review will be equal to the weighted-average dumping margin established in the final results of this review; (2) for merchandise exported by a company not covered in this review but covered in a prior completed segment of the proceeding, the cash deposit rate will continue to be the company-specific rate published in the completed segment for the most recent period; (3) if the exporter is not a firm covered in this review, a prior review, or the original investigation but the producer has been covered in a prior completed segment of this proceeding, then the cash deposit rate will be the rate established in the completed segment for the most recent period for the producer of the merchandise; and (4) the cash deposit rate for all other producers or exporters will continue to be 15.67 percent, the all-others rate established in the less-than-fair-value investigation for this proceeding.¹⁵

¹⁵ See Order, 51 FR at 8341.

These cash deposit requirements, when imposed, shall remain in effect until further notice.

This notice serves as a final reminder to importers of their responsibility under 19 CFR 351.402(f)(2) to file a certificate regarding the reimbursement of antidumping and/or countervailing duties prior to liquidation of the relevant entries during this POR. Failure to comply with this requirement could result in Commerce's presumption that reimbursement of the antidumping and/or countervailing duties occurred and the subsequent assessment of doubled antidumping duties.

Notification to Importers

This notice also serves as a preliminary reminder to importers of their responsibility under 19 CFR 351.402(f) to file a certificate regarding the reimbursement of antidumping and/or countervailing duties prior to liquidation of the relevant entries during the POR. Failure to comply with this requirement could result in Commerce's presumption that reimbursement of antidumping and/or countervailing duties occurred and the subsequent assessment of double antidumping duties.

Administrative Protective Order

This notice also serves as a reminder to parties subject to administrative protective order (APO) of their responsibility concerning the return or destruction of proprietary information disclosed under APO in accordance with 19 CFR 351.305. Timely written notification of the return or destruction of APO materials or conversion to judicial protective order is hereby requested. Failure to comply with the regulations and terms of an APO is a violation subject to sanction.

Notification to Interested Parties

Commerce is issuing and publishing this notice in accordance with sections 751(a)(1) and 777(i)(1) of the Act, and 19 CFR 351.221(b)(5).

Dated: September 30, 2022.
Lisa W. Wang,
Assistant Secretary for Enforcement and Compliance.

Appendix I—List of Topics Discussed in the Issues and Decision Memorandum

I. Summary

II. Background

III. Scope of the Order

IV. Changes to the Preliminary Results

V. Discussion of the Issue

Comment: Adjustment for the Alleged Particular Market Situation (PMS)

VI. Recommendation

Appendix II—List of Companies Not Individually Examined

1. Apex International Logistics

2. Aquatec Maxcon Asia

3. Asian Unity Part Co., Ltd.

4. Better Steel Pipe Company Limited.

5. Bis Pipe Fitting Industry Co., Ltd.

6. Blue Pipe Steel Center Co. Ltd.

7. Chuhatsu (Thailand) Co., Ltd.

8. CSE Technologies Co., Ltd.

9. Expeditors International (Bangkok)

10. Expeditors Ltd.

11. FS International (Thailand) Co., Ltd

12. Kerry-Apex (Thailand) Co., Ltd.

13. Oil Steel Tube (Thailand) Co., Ltd.

14. Otto Ender Steel Structure Co., Ltd.

15. Pacific Pipe and Pump

16. Pacific Pipe Public Company Limited

17. Panalpina World Transport Ltd.

18. Polypipe Engineering Co., Ltd.

19. Schlumberger Overseas S.A.

20. Siam Fittings Co., Ltd.

21. Siam Steel Pipe Co., Ltd.

22. Sino Connections Logistics (Thailand) Co., Ltd.

23. Thai Malleable Iron and Steel

24. Thai Oil Group

25. Thai Oil Pipe Co., Ltd.

26. Thai Premium Pipe Co., Ltd.

27. Vatana Phaisal Engineering Company

28. Visavakit Patana Corp., Ltd.

[FR Doc. 2022-21772 Filed 10-5-22; 8:45 am]

BILLING CODE 3510-DS-P